NUCLEAR REGULATORY COMMISSION

Advisory Committee on Nuclear Waste; Notice of Meeting

The Advisory Committee on Nuclear Waste (ACNW) will hold its 143rd meeting on June 24-25, 2003, 11545 Rockville Pike, Rockville, Maryland.

The entire meeting will be open to public attendance.

The schedule for this meeting is as follows:

Tuesday, June 24, 2003

10:30 a.m.-10:40 a.m.: Opening Statement (Open)—The Chairman will open the meeting with brief opening remarks, outline the topics to be discussed, and indicate items of interest.

10:40 a.m.-12 Noon: DOE Strategy for Resolving Key Technical Issue (KTI) Agreements (Open)—The Committee will be briefed by DOE representatives on their approach to grouping and resolving all KTI Agreements for the Yucca Mountain Project, including status and path forward.

1 p.m.-2:30 p.m.: Use of Risk Information as Basis for DOE/NRC Agreement Closure (Open)—The Committee will hear presentations by and hold discussions with representatives of the NRC Office of Nuclear Materials Safety and Safeguards (NMSS) and DOE representatives on the use of risk information as the basis for closure of technical agreements for the Yucca Mountain Project.

2:45 p.m.-4:15 p.m.: NRC Staff Report on the Risk Significance Ranking of the 293 KTI Agreements (Open)—The Committee will hear an update by the NRC/NMSS staff on how the 293 KTI agreements were ranked into high, medium, and low risk significance.

4:15 p.m.-6 p.m.: Proposed ACNW Reports (Open)—The Committee will discuss proposed ACNW reports on matters considered during this meeting, as well as the proposed ACNW report on Status of KTI Agreement Resolution for the Proposed Yucca Mountain High Level Waste Repository (Tentative).

Wednesday, June 25, 2003

8:30 a.m.-8:35 a.m.: Opening Statement (Open)—The Chairman will make opening remarks regarding the conduct of today's sessions.

8:35 a.m.-10:30 a.m.: Spent Fuel Characterization Project (Open)—The Committee will hear presentations by and hold discussions with representatives of the NRC Office of Nuclear Regulatory Research (RES) on a project involving spent fuel loaded in 1985 in a dry cask and opened and inspected in 1999.

10:45 a.m.-11:45 a.m.: Update on Waste Management Related Research (Open)—The Committee will receive an update from NRC/RES staff on the status of the radionuclide transport research as well as other waste-related research activities.

1 p.m.-1:30 p.m.: Plans for Performance Confirmation Working Group (Open)—The Committee will discuss the final agenda, and plans for the Performance Confirmation Working Group scheduled for the next (144th) meeting.

1:30 p.m.-2 p.m.: 2003-04 ACNW Research Report (Open)—An outline and potential plan for the next ACNW Research Report will be discussed.

2 p.m.-2:15 p.m.: Election of Officers (Open)—The members will nominate and elect members to the positions of Chairman and Vice Chairman for the period July 1, 2003 through June 30, 2004.

2:30 p.m.-5:45 p.m.: Proposed ACNW Reports (Open)—The Committee will continue to discuss proposed ACNW reports.

5:45 p.m.-6 p.m.: Miscellaneous (Open)—The Committee will discuss matters related to the conduct of Committee activities and matters and specific issues that were not completed during previous meetings, as time and availability of information permit.

Procedures for the conduct of and participation in ACNW meetings were published in the Federal Register on October 11, 2002 (67 FR 63459). In accordance with these procedures, oral or written statements may be presented by members of the public. Electronic recordings will be permitted only during those portions of the meeting that are open to the public. Persons desiring to make oral statements should notify Mr. Howard J. Larson, ACNW (Telephone 301/415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACNW meetings. Those wishing to use this service for observing ACNW meetings should contact Mr. Theron Brown, ACNW Audiovisual Technician (301/415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: June 9, 2003.
Andrew L. Bates,
Advisory Committee Management Officer.

[FR Doc. 03-14959 Filed 6-12-03; 8:45 am]

BILLING CODE 7590-01-P